DEPARTMENT OF ENERGY

Federal Energy Regulatory Commission

Combined Notice of Filings

Take notice that the Commission has received the following natural Gas Pipeline Rate and Refund Report filings:

Filings Instituting Proceedings

Docket Numbers: RP13-1311-000.

Applicants: Texas Gas Transmission, LLC.

Description: Texas Gas Transmission, LLC submits tariff filing per 154.204: In Field Transfers to be effective 10/3/2013.

Filed Date: 9/3/13.

Accession Number: 20130903-5109.

Comments Due: 5 p.m. ET 9/16/13.

Docket Numbers: RP13-1312-000.

Applicants: Millennium Pipeline Company, LLC.

Description: Negotiated Rate Service Agreement—Contract No. 142902 to be effective 10/1/2013.

Filed Date: 9/3/13.

Accession Number: 20130903-5137.

Comments Due: 5 p.m. ET 9/16/13.

Docket Numbers: RP13-1294-000.

Applicants: Columbia Gulf Transmission, LLC.

Description: Columbia Gulf Transmission, LLC Annual Cash-Out Report under RP13-1294.

Filed Date: 8/30/13.

Accession Number: 20130830-5042.

Comments Due: 5 p.m. ET 9/11/13.

Docket Numbers: RP13-1298-000.

Applicants: Colorado Interstate Gas Company, L.L.C.

Description: Colorado Interstate Gas Company, L.L.C.'s Annual Operational Purchases and Sales Report under RP13-1298.

Filed Date: 8/30/13.

Accession Number: 20130830-5102.

Comments Due: 5 p.m. ET 9/11/13.

Docket Numbers: RP13-1303-000.

Applicants: Cheyenne Plains Gas Pipeline Company LLC.

Description: Application to Request Limited Waiver of certain Capacity Release Tariff Provisions of Cheyenne Plains Gas Pipeline Company, L.L.C. under RP13-1303.

Filed Date: 8/30/13.

Accession Number: 20130830-5148.

Comments Due: 5 p.m. ET 9/11/13.

Docket Numbers: RP13-1304-000.

Applicants: Colorado Interstate Gas Company, L.L.C.

Description: Application of Colorado Interstate Gas Company, L.L.C. requesting limited waiver of a capacity release tariff provision uner RP13-1304.

Filed Date: 8/30/13.

Accession Number: 20130830-5149.

Comments Due: 5 p.m. ET 9/11/13.

Docket Numbers: RP13-1307-000.

Applicants: MarkWest Pioneer, L.L.C.

Description: Quarterly Fuel Adjustment Filing of MarkWest Pioneer, L.L.C. under RP13-1307.

Filed Date: 8/30/13.

Accession Number: 20130830-5168.

Comments Due: 5 p.m. ET 9/11/13.

Docket Numbers: RP08-257-000.

Applicants: Saltville Gas Storage Company L.L.C.

Description: Petition to Amend Stipulation and Agreement and Motion for Shortened Answer Period and Request for Expedited Action of Saltville Gas Storage Company L.L.C. under RP08-257.

Filed Date: 8/28/13.

Accession Number: 20130828-5195.

Comments Due: 5 p.m. ET 9/4/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1105-002.

Applicants: Energy West Development, Inc.

Description: Compliance Filing to 151 to be effective 12/1/2012.

Filed Date: 9/4/13.

Accession Number: 20130904-5053.

Comments Due: 5 p.m. ET 9/16/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service and qualifying facilities filings can be found at: http://www.ferc.gov/docs-filing/efiling/filing-req.pdf. For other information, call (866) 208-3676 (toll free). For TTY, call (202) 502-8659.

Dated: September 4, 2013.
Nathaniel J. Davis, Sr.,
Deputy Secretary.

[FR Doc. 2013-21957 Filed 9-9-13; 8:45 am]

BILLING CODE 6717-01-P